DEPARTMENT OF HEALTH AND HUMAN SERVICES

Food and Drug Administration

Veterinary Medicine Advisory Committee; Notice of Meeting

AGENCY: Food and Drug Administration, HHS.

ACTION: Notice.

This notice announces a forthcoming meeting of a public advisory committee of the Food and Drug Administration (FDA). The meeting will be open to the public.

Name of Committee: Veterinary Medicine Advisory Committee.

General Function of the Committee: To provide advice and recommendations to the agency on FDA's regulatory issues.

Date and Time: The meeting will be held on January 22, 23, and 24, 2002, from 8:30 a.m. to 5 p.m.

Location: The DoubleTree Hotel, Plaza Rooms I and II, 1750 Rockville Pike, Rockville, MD.

Contact: Aleta Sindelar, Center for Veterinary Medicine (CVM) (HFV-3), Food and Drug Administration, 7519 Standish Pl., Rockville, MD 20855, 301-827-4515, or FDA Advisory Committee Information Line, 1-800-741-8138 (301-443-0572 in the Washington, DC area), code 12546. Please call the Information Line for up-to-date information on this meeting.

Agenda: On January 22, 23 and 24, 2002, the committee will seek recommendations on the issues of import tolerances under the provisions of the Animal Drug Availability Act of 1996, and the antimicrobial drug effects on pathogen load in food-producing animals as pathogen load relates to the preapproval process of new animal drug applications (NADAs). Information concerning the discussion of import tolerances can be found in the August 13, 2001, CVM Update at: http://www.fda.gov/cvm/index/updates/importol.htm and in the Federal Register advance notice of proposed rulemaking of August 10, 2001 (66 FR 42167). Information concerning the issues of pathogen load will be made publicly available to the Veterinary Medicine Advisory Committee members and the public in advance of the meeting and posted on the CVM home page at: http://www.fda.gov/cvm. A limited number of paper copies of the background information will be available at the meeting.

Procedure: Interested persons may present data, information, or views, orally or in writing, on the issues pending before the committee. Written submissions may be made to the contact person by January 4, 2002. Oral presentations from the public will be scheduled between approximately 3 p.m. and 5 p.m. on January 22, and between approximately 8 a.m. and 10 a.m. on January 24, 2002. The time allotted for each presentation may be limited. Those desiring to make oral presentations should notify the contact person before January 4, 2002, and submit a brief statement of the general nature of the evidence or arguments they wish to present, the names and addresses of proposed participants, and an indication of the approximate time requested to make their presentation. You will be notified of your allotted time prior to the meeting. Your entire statement should be submitted for the record.

Notice of this meeting is given under the Federal Advisory Committee Act (5 U.S.C. app. 2).

Dated: November 8, 2001.
Linda A. Suydam,
Senior Associate Commissioner.

[FR Doc. 01-29003 Filed 11-20-01; 8:45 am]

BILLING CODE 4160-01-S